DEPARTMENT OF ENERGY

Federal Energy Regulatory Commission

Privacy Act of 1974; System of Records

AGENCY: Federal Energy Regulatory Commission, DOE.

ACTION: Notice of a modified system of records.

SUMMARY: The Federal Energy Regulatory Commission (FERC) is publishing notice of modifications to an existing FERC system of records, FERC-31 titled Commission Parking Records. This notice adds 10 new routine uses, including two prescribed by the Office of Management and Budget (OMB) Memorandum M-17-12, Preparing for and Responding to a Breach of Personally Identifiable Information, January 3, 2017, that will permit FERC to disclose information as necessary in response to an actual or suspected breach of its own records or to assist another agency in its efforts to respond to a breach. This System of Records Notice (SORN) also describes the Commission's system's manager and location change.

DATES: In accordance with 5 U.S.C. 552a(e)(4) and (11), this system of records notice is effective upon publication, with the exception of the routine uses, which will go into effect 30 days after publication of this notice, on December 22, 2021, unless comments have been received from interested members of the public requiring modification and republication of the notice. Please submit any comments by January 21, 2022.

ADDRESSES: Any person interested in commenting on the establishment of this modified system of records may do so by submitting comments electronically to: Privacy@ferc.gov. (Include reference to “FERC-31 Commission Parking Records” in the subject line of the message.)

For United States Postal Service-delivered mail: Federal Energy Regulatory Commission, Director, Office of External Affairs, 888 First Street NE, Room 4A-05, Washington, DC 20426.

For hand-delivered or courier-delivered mail: Federal Energy Regulatory Commission, Director, Office of External Affairs, 12225 Wilkins Avenue, Rockville, Maryland 20852.

FOR FURTHER INFORMATION CONTACT: Mittal Desai, Chief Information Officer & Senior Agency Official for Privacy, Office of the Executive Director, Federal Energy Regulatory Commission, 888 First Street NE, Washington, DC 20426, (202) 502-6432.

SUPPLEMENTARY INFORMATION: The Commission Parking Records notice includes 10 new routine uses, including two prescribed routine uses that will permit FERC to disclose information as necessary in response to an actual or suspected breach of its own records or to assist another agency in its efforts to respond to a breach. This notice also addresses the system's manager and location change.

SYSTEM NAME AND NUMBER:

Commission Parking Records: FERC-31.

SECURITY CLASSIFICATION:

Unclassified.

SYSTEM LOCATION:

Federal Energy Regulatory Commission, Logistics Operations, Logistics Management Division, 888 First Street NE, Washington, DC 20426.

SYSTEM MANAGER(S):

Logistics Operations Branch Chief, Federal Energy Regulatory Commission, Logistics Operations, Logistics Management Division, 888 First Street NE, Washington, DC 20426.

AUTHORITY FOR MAINTENANCE OF THE SYSTEM:

41 CFR 101-20.104 Parking Facilities.

PURPOSE(S) OF THE SYSTEM:

The Commission Parking Records program supports the overall management of parking operations at the FERC Headquarters garage. The application is managed and controlled by the Commission's Logistics Management Division and is utilized by authorized users to submit applications for parking permits; authorized users are able to electronically register their vehicles and request a parking permit. Information is used to assign parking spaces; to monitor parking expenses and the program budget; to notify drivers of emergencies or parking violations; and to match employees in the same zip code area to existing or potential carpools. The information will also be used for administrative purposes to ensure quality control, performance, and improving management process.

CATEGORIES OF INDIVIDUALS COVERED BY THE SYSTEM:

The categories of individuals covered by the system are employees of FERC, vendors and members of the public who park at the FERC Headquarters garage are covered by the Commission Parking Records program.

CATEGORIES OF RECORDS IN THE SYSTEM:

The Commission Parking Records program system maintains records on employee's name, office and home address, office and home phone number, vehicle description and license plate number.

RECORD SOURCE CATEGORIES:

Information is obtained from current employees, vendors and members of the public seeking parking within the FERC Headquarters garage.

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) are as follows:

1. To appropriate agencies, entities, and persons when (a) FERC suspects or has confirmed that there has been a breach of the system of records; (b) FERC has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, where the record is relevant and necessary to proceeding and the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist, as permitted by 44 U.S.C. 2904 and 2906.

10. To appropriate Federal, State, or local agency responsible for investigating, prosecuting, enforcing, or implementing a statute, rule, regulation, or order, where the record indicates a violation or potential violation of civil or criminal law, rule, regulation, order.

POLICIES AND PRACTICES FOR STORAGE OF RECORDS:

Records are maintained in electronic format and stored by individuals first and last name, city, zip code and vehicle license plate numbers. In addition, all FERC employees and contractors with authorized access have undergone a thorough background security investigation. Data access is restricted to agency personnel or contractors whose responsibilities require access. Access to electronic records is controlled by user ID and password combination and/or other network access or security controls (e.g., firewalls). Role based access is used to restrict electronic data access and the organization employs the principle of least privilege, allowing only authorized users with access (or processes acting on behalf of users) necessary to accomplish assigned tasks in accordance with organizational missions and business functions.

POLICIES AND PRACTICES FOR RETRIEVAL OF RECORDS:

Records may be retrieved by employee's or member of the public's name, plate number, or vehicle license plate number.

POLICIES AND PRACTICES FOR RETENTION AND DISPOSAL OF RECORDS:

Records are retained in accordance with the NARA-approved FERC Comprehensive Records Disposition Schedule, at FERC Records Schedule VII, Administrative Program Records, Part III, Finance, Accounting and Operations, Item 1, Commuter Support Program Records. Temporary, Destroy after subsequent open season, and General Records Schedule (GRS) 5.2: Transitory and Intermediary Records (GRS 5.2 Item 020 Intermediary Records: https://www.archives.gov/files/records-mgmt/grs/grs05-2.pdf).” Materials, including hard copy printouts derived from electronic records created on an ad hoc basis for reference purposes or to meet day-to-day business needs, are destroyed when the Commission determines that they are no longer needed for administrative, legal, audit, or other operational purposes.

ADMINISTRATIVE, TECHNICAL, AND PHYSICAL SAFEGUARDS:

Physical access to FERC is controlled by security guards and admission is limited to those individuals possessing a valid identification card or being escorted by an authorized FERC representative. Data center buildings are guarded and monitored by security personnel, cameras, ID checks, and other physical security measures. Physical access to the server rooms is limited to authorized personnel only. Records are maintained in lockable file cabinets in a lockable room with access limited to those employees whose official duties require access; servers are stored in secured facilities in cipher locked server rooms. Computer data is secured by password. The system is secured with the safeguards required by FedRAMP and NIST SP 800-53.

RECORD ACCESS PROCEDURES:

Paper records are maintained in lockable file cabinets in a lockable room with access limited to those employees whose official duties require access. Digital records are accessed by authorized employees by using their user ID and password.

Submit a Privacy Act Request:

The Privacy Act permits access to records about yourself that are maintained by FERC in a Privacy Act system of records. In addition, you may request that incorrect or incomplete information be changed or amended. Privacy requests follow FERC's Freedom of Information Act (FOIA) request process. You may access the FOIA website at https://www.ferc.gov/freedom-information-act-foia-and-privacy-act.

For questions: Contact the FOIA Service Center at 202-502-6088 or by email at foia-ceii@ferc.gov. Written request for access to records should be directed to:

For United States Postal Service-delivered mail: Federal Energy Regulatory Commission, Director, Office of External Affairs, 888 First Street NE, Washington, DC 20426.

For hand-delivered or courier-delivered mail: Federal Energy Regulatory Commission, Director, Office of External Affairs, 12225 Wilkins Avenue, Rockville, Maryland 20852.

CONTESTING RECORD PROCEDURES:

The Privacy Act permits access to records about yourself that are maintained by FERC in a Privacy Act system of records. In addition, you may request that incorrect or incomplete information be changed or amended. Privacy requests follow FERC's Freedom of Information Act (FOIA) request process. You may access the FOIA website at https://www.ferc.gov/freedom-information-act-foia-and-privacy-act.

For questions: Contact the FOIA Service Center at 202-502-6088 or by email at foia-ceii@ferc.gov.

Written request to contest records should be directed to:

For United States Postal Service-delivered mail: Federal Energy Regulatory Commission, Director, Office of External Affairs, 888 First Street NE, Washington, DC 20426.

For hand-delivered or courier-delivered mail: Federal Energy Regulatory Commission, Director, Office of External Affairs, 12225 Wilkins Avenue, Rockville, Maryland 20852.

NOTIFICATION PROCEDURES:

The Privacy Act permits access to records about yourself that are maintained by FERC in a Privacy Act system of records. In addition, you may request that incorrect or incomplete information be changed or amended. Privacy requests follow FERC's Freedom of Information Act (FOIA) request process. You may access the FOIA website at https://www.ferc.gov/freedom-information-act-foia-and-privacy-act.

For questions: Contact the FOIA Service Center at 202-502-6088 or by email at foia-ceii@ferc.gov.

Written request for access to records should be directed to:

For United States Postal Service-delivered mail: Federal Energy Regulatory Commission, Director, Office of External Affairs, 888 First Street NE, Washington, DC 20426.

For hand-delivered or courier-delivered mail: Federal Energy Regulatory Commission, Director, Office of External Affairs, 12225 Wilkins Avenue, Rockville, Maryland 20852.

EXEMPTIONS PROMULGATED FOR THE SYSTEM:

None.

HISTORY:

FERC previously published the Commission Parking Records in the Federal Register as Commission Parking Records. The previous Federal Register notice citation is Federal Register Vol.65, No. 79, Monday, April 24, 2000.

Issued: December 15, 2021.
Debbie-Anne A. Reese,
Deputy Secretary.

[FR Doc. 2021-27672 Filed 12-21-21; 8:45 am]

BILLING CODE 6717-01-P